DEPARTMENT OF TRANSPORTATION

Federal Aviation Administration

RTCA Special Committee 200: Modular Avionics (MA)

AGENCY: Federal Aviation Administration (FAA), DOT.

ACTION: Notice of RTCA Special Committee 200 meeting.

SUMMARY: The FAA is issuing this notice to advise the public of a meeting of RTCA Special Committee 200: Modular Avionics.

DATES: The meeting will be held on September 9-12, 2003 from 9 a.m. to 5 p.m.

ADDRESSES: The meeting will be held at RTCA, Inc., 1828 L Street, NW., Suite 805, Washington, DC, 20036-5133.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 200 meeting. The agenda will include:

• September 9:

• Subgroup 1-3 Meetings.

• September 10:

• Opening Session (Welcome, Introductory and Administrative Remarks, Review Agenda, Review Summary of Previous Meeting).

• Approval of Summary of Meeting #3, RTCA Paper No. 136-03/SC200-012.

• Review action items.

• Briefings on Related Committees.

• Report on Subgroup Activities since Joint Meeting #3.

• Plenary Review of Document Outline.

• Path to Deliverable Document; Establishment of Editorial Team.

• September 11:

• Subgroups 1-3 Meetings.

• September 12:

• Report of Subgroup Meetings.

• Closing Session (Make Assignments, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 1, 2003.
Robert Zoldos,
FAA Systems Engineer, RTCA Advisory Committee.

[FR Doc. 03-21085 Filed 8-15-03; 8:45 am]

BILLING CODE 4910-13-M